COMMISSION ON CIVIL RIGHTS

Sunshine Act Notice

AGENCY: United States Commission on Civil Rights.

ACTION: Notice of meeting.

DATE AND TIME: Friday, October 16, 2009; 9:30 a.m. EDT.

PLACE: 624 9th St., NW., Room 540, Washington, DC 20425.

Meeting Agenda

This meeting is open to the public.

I. Approval of Agenda.

II. Approval of Minutes of September 3, September 11 and September 24 Meetings.

III. Announcements.

IV. Staff Director's Report.

V. Program Planning.

• Update on Status of 2010 Enforcement Report

• Approval of First Quarter FY 2010 Briefing Report Topic

• Update on Status of Briefing Reports; Approval of Commissioner Deadlines for Consideration of Briefing Reports

• Approval of Calendar of 2010 Commission Meetings

• National Conference Subcommittee Issues

• Motion to Appoint Additional Member to the Subcommittee

• Motion to Delegate to the Subcommittee the Authority to Set the National Conference Date

VI. State Advisory Committee Issues.

• Reconsideration of a Nominee for the Hawaii SAC

VII. Adjourn.

CONTACT PERSON FOR FURTHER INFORMATION: Lenore Ostrowsky, Acting Chief, Public Affairs Unit (202) 376-8591. TDD: (202) 376-8116.

Persons with a disability requiring special services, such as an interpreter for the hearing impaired, should contact Pamela Dunston at least seven days prior to the meeting at 202-376-8105. TDD: (202) 376-8116.

Dated: October 6, 2009.
Martin Dannenfelser,
Staff Director.

[FR Doc. E9-24433 Filed 10-6-09; 4:15 pm]

BILLING CODE 6335-01-P